DEPARTMENT OF EDUCATION

Office of Postsecondary Education; Solicitation of Third-Party Comments Concerning the Performance of Accrediting Agencies; Correction

AGENCY: Office of Postsecondary Education, Department of Education.

ACTION: Call for written third-party comments; extension of comment period; correction.

SUMMARY: On January 24, 2018 we published a notice in the Federal Register soliciting comments in connection with, inter alia, the Department's review of the application of the Accrediting Council for Independent Colleges and Schools (ACICS) for initial recognition and the compliance report submitted by the American Bar Association (ABA), both of which are currently undergoing review for purposes of recognition by the U.S. Secretary of Education. The deadline for comments set forth in that notice was February 16, 2018. On February 22, 2018, we published a notice in the Federal Register extending the public comment period until March 1, 2018 for the submission of comments relating to those two agencies. This notice corrects our earlier statements in those two Federal Register notices about the scope of the public comments.

DATES: Applicable February 28, 2018.

FOR FURTHER INFORMATION CONTACT: Herman Bounds, Director, Accreditation Group, Office of Postsecondary Education, U.S. Department of Education, 400 Maryland Avenue SW., room 270-01, Washington, DC 20202, telephone: (202) 453-7615, or email: herman.bounds@ed.gov.

If you use a telecommunications device for the deaf or a text telephone, call the Federal Relay Service, toll free, at 1-800-877-8339.

SUPPLEMENTARY INFORMATION: Background: On January 24, 2018 (83 FR 3335), we published in the Federal Register a notice of a call for written third-party comments. That notice provided information to members of the public on submitting written comments with respect to accrediting agencies currently undergoing review for purposes of recognition by the Secretary of Education. That notice established a comment period beginning on January 24, 2018, and closing on February 16, 2018. On February 15, 2018, the U.S. District Court for the Southern District of New York entered an order the effect of which was to require the Department of Education to extend the comment period relating to ACICS and ABA to March 1, 2018. (See The Century Foundation v. Betsy Devos, case number 18-cv-1128). Pursuant to that court order, on February 22, 2018 (83 FR 7702), we published a notice in the Federal Register extending the public comment period until March 1, 2018, and stated that the extension was “for comments on the initial application for recognition of ACICS and the compliance report submitted by the ABA.” Under the Higher Education Act, the Department solicits “third-party information concerning the performance of the accrediting agency,” 20 U.S.C. 1099b(n)(1)(A), and accordingly, takes comments with regard to “the agency's compliance with the criteria for recognition.” 34 CFR 602.32(a) (emphasis added). The comment process established by 34 CFR 602.32 therefore solicits comments on the accrediting agencies' performance and compliance with the criteria for recognition, and not on any applications or reports agencies may have submitted to the Department. The process does not require the commenters to have access to the specific applications or compliance reports submitted by the accrediting agencies, and the Department has not traditionally provided those materials in advance of the comment process.

This notice corrects certain language related to the comment period in both the January 24, 2018, and February 22, 2018, Federal Register notices. All other language and requirements from the prior notices, not amended by this notice of correction, remain the same.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF, you must have Adobe Acrobat Reader, which is available free at this site.

You may also access documents of the Department published in the Federal Register by using the article search feature at: www.federalregister.gov. Specifically, through the advanced search feature at this site, you can limit your search to documents published by the Department.

Corrections

1. In the Federal Register notice of February 22, 2018, on page 7702 in the second column under the heading Summary, correct the last sentence in the Summary to read as follows:

“Pursuant to a recent court order, we are extending the public comment period until March 1, 2018 for the submission of comments on the compliance of Accrediting Council for Independent Colleges and Schools (ACICS) with the criteria for recognition set forth in Subpart B of 34 CFR 602, and for the submission of comments about the compliance of the American Bar Association with the criteria for recognition cited in the Senior Department Official's September 22, 2016 letter ¹ following the June 23, 2016 NACIQI meeting available at: https://opeweb.ed.gov/aslweb/finalstaffreports.cfm. The review of the ABA's compliance is limited to 34 CFR 602.15(a)(1), 602.15(a)(2), 602.15(a)(3), 602.16(a)(1)(viii), and 602.17(b).”

¹ The January 24, 2018 (83 FR 3335), Federal Register notice solicitation for written third-party comments relating to the ABA incorrectly identified the letter from the Senior Department Official as being dated “October 28, 2016.” As noted herein, the correct date is “September 22, 2016.”

2. In the Federal Register notice of February 22, 2018, on page 7702 in the second column under the heading ADDRESSES, correct the section to read as follows:

“ADDRESSES: Written comments about ACICS's compliance with the criteria for recognition or the ABA's compliance with the criteria for recognition cited in the Senior Department Official's September 22, 2016 letter must be received by March 1, 2018, in the ThirdPartyComments@ed.gov mailbox and include the subject line `Written Comments: (agency name).' ”

3. In the Federal Register notice of January 24, 2018, on page 3336 in the first column, correct the first full paragraph to read as follows:

“2. American Bar Association Compliance report includes the following: (1) Findings identified in the September 22, 2016 letter from the senior Department official following the June 23, 2016 NACIQI meeting available at: http://opeweb.ed.gov/aslweb/finalstaffreports.cfm, (2) Review under 34 CFR 602.15(a)(1), § 602.15(a)(2), § 602.15(a)(3), § 602.16(a)(1)(viii), and § 602.17(b).”

4. In the Federal Register notice of January 24, 2018, on page 3336 in the second column under the heading Submission of Written Comments Regarding a Specific Accrediting Agency or State Approval Agency Under Review, correct the fourth sentence to read as follows:

“Comments about an agency's recognition after review of a compliance report must relate to issues identified in the senior Department official's letter that requested the report, or in the Secretary's appeal decision, if any.”

Dated: February 26, 2018.
Lynn B. Mahaffie,
Deputy Assistant Secretary for Policy, Planning, and Innovation, Office of Postsecondary Education.

[FR Doc. 2018-04192 Filed 2-26-18; 4:15 pm]

BILLING CODE 4000-01-P